DEPARTMENT OF AGRICULTURE

Natural Resources Conservation Service

Notice of Availability of Proposed Changes to Conservation Practice standards in Section IV of the Field Office Technical Guide of the NRCS in South Dakota for Review and Comment

SUMMARY: It is the intention of the NRCS in South Dakota to issue revised conservation practice standards in Section IV of the FOTG for the practice “Animal Trails and Walkways.”

DATES: Comments on this notice must be received within 30 days from the publication date in the Federal Register.

ADDRESSES: All comments concerning the proposed conservation practice standard changes should be addressed to: Dean Fisher, State Conservationist, NRCS, 200 Fourth Street SW, Huron, South Dakota 57350. A copy of this standard will be made available upon written request.

Dated: June 13, 2000.
Dean Fisher,
State Conservationist, Natural Resources Conservation Service, Huron, South Dakota 57350.

[FR Doc. 00-16408 Filed 6-28-00; 8:45 am]

BILLING CODE 3410-16-U